INTER-AMERICAN FOUNDATION

Sunshine Act Meetings

TIME AND DATE: December 11, 2023, ET. 1:30 p.m.-3 p.m.

PLACE: Via Zoom.

STATUS: Meeting of the Board of Directors, open to the public.

MATTERS TO BE CONSIDERED:

▪ Call to Order

▪ Overview of Meeting Rules by General Counsel

▪ Approval of October 10, 2023 Minutes

▪ Check in on FY 2024 Strategic Priorities

▪ Evolve the program model

▪ Champion community-led development

▪ Drive greater efficiencies of processes and expenses

▪ Strengthen employee engagement and culture

▪ Adjournment

Any requests to attend the Meeting of the Board of Directors should be submitted by 2 p.m. on December 8th.

CONTACT PERSON FOR MORE INFORMATION: Nicole Stinson, Associate General Counsel, (202) 683-7117 or nstinson@iaf.gov.

For Dial-in Information Contact: Nicole Stinson, Associate General Counsel, nstinson@iaf.gov.

The Inter-American Foundation is holding this meeting under the Government in the Sunshine Act, 5 U.S.C. 552b.

Natalia Mandrus,
Associate General Counsel.

[FR Doc. 2023-26771 Filed 12-1-23; 11:15 am]

BILLING CODE 7025-01-P